DEPARTMENT OF DEFENSE

Department of the Army, Corps of Engineers

Request for Comments on the Draft Estuary Habitat Restoration Strategy Prepared by the Estuary Habitat Restoration Council

AGENCY: Department of the Army, Army Corps of Engineers, DoD.

ACTION: Notice of extension of comment period.

SUMMARY: The Corps of Engineers on behalf of the interagency Estuary Habitat Restoration Council is extending the comment period for the draft “Estuary Habitat Restoration Strategy.” This extension will provide interested persons with additional time to prepare comments on the draft strategy.

DATES: Consideration will be given only to comments that are received on or before July 1, 2002.

ADDRESSES: Send comments to Estuary Habitat Restoration Strategy, U.S. Army Corps of Engineers, Institute for Water Resources, 7701 Telegraph Road, Casey Building, Alexandria, Virginia, 22315-3868. See Supplementary Information section for electronic filing address.

FOR FURTHER ASSISTANCE CONTACT: Ms. Ellen Cummings, Headquarters, U.S. Army Corps of Engineers, Washington, DC 20314-1000, (202) 761-4558; or Ms. Cynthia Garman-Squier, Office of the Assistant Secretary of the Army (Civil Works), Washington, DC, (703) 695-6791.

SUPPLEMENTARY INFORMATION: On May 3, 2002 we published in the Federal Register (67 FR 22415) the “Draft Estuary Habitat Restoration Strategy” for review and comment. Comments regarding the draft strategy were required to be received on or before June 17, 2002. During the comment period, we received a request to extend the comment period.

In response to this request, we are extending the comment period for the “Draft Estuary Habitat Restoration Strategy” through July 1, 2002.

Electronic Filing Address: You may submit comments by E-mail to estuary@usace.army.mil. Comments should be in one of the following formats: Word, WordPerfect, or ASCII. The subject line for submission of comments should begin with “Estuary Habitat Restoration Strategy comments from [insert name of agency, organization, or individual].”

Luz D. Ortiz,
Army Federal Register Liaison Officer.

[FR Doc. 02-15718 Filed 6-20-02; 8:45 am]

BILLING CODE 3710-92-M